ENVIRONMENTAL PROTECTION AGENCY

40 CFR Part 271

[EPA-R03-RCRA-2017-0553; FRL-9979-06—Region 3]

District of Columbia: Proposed Authorization of District Hazardous Waste Management Program Revisions

AGENCY: Environmental Protection Agency (EPA).

ACTION: Proposed rule.

SUMMARY: The District of Columbia (the District) has applied to the United States Environmental Protection Agency (EPA) for final authorization of revisions to its hazardous waste program under the Resource Conservation and Recovery Act (RCRA). EPA has reviewed the District's application, and has determined that these revisions satisfy all requirements needed to qualify for final authorization. As a result, by this proposed rule, EPA is proposing to authorize the District's revisions and is seeking public comment prior to taking final action.

DATES: Comments on this proposed rule must be received by July 11, 2018.

ADDRESSES: Submit your comments, identified by Docket ID No. EPA-R03-RCRA-2017-0553, by one of the following methods:

1. Federal eRulemaking Portal: http://www.regulations.gov. Follow the on-line instructions for submitting comments.

2. Email: kinslow.sara@epa.gov.

3. Mail: Sara Kinslow, U.S. EPA Region III, RCRA Waste Branch, Mailcode 3LC32, 1650 Arch Street, Philadelphia, PA 19103-2029.

4. Hand Delivery: At the previously-listed EPA Region III address. Such deliveries are only accepted during normal hours of operation, and special arrangements should be made for deliveries of boxed information.

You may view and copy the District's application from 9:00 a.m. to 5:00 p.m., Monday through Friday at the following locations: District of Columbia Department of Energy and Environment, Environmental Services Administration, Hazardous Waste Branch, 1200 First Street NE, 5th Floor, Washington, DC, Phone number: (202) 654-6031, Attn: Barbara Williams; and EPA Region III, Library, 2nd Floor, 1650 Arch Street, Philadelphia, PA 19103-2029, Phone number: (215) 814-5254.

Instructions: EPA must receive your comments by July 11, 2018. Direct your comments to Docket ID No. EPA-R03-RCRA-2017-0553. EPA's policy is that all comments received will be included in the public docket without change and may be made available online at www.regulations.gov, including any personal information provided, unless the comment includes information claimed to be Confidential Business Information (CBI), or other information whose disclosure is restricted by statute. Do not submit information that you consider to be CBI or otherwise protected through http://www.regulations.gov or email. The Federal regulations website, http://www.regulations.gov, is an “anonymous access” system, which means EPA will not know your identity or contact information unless you provide it in the body of your comment. If you send an email comment directly to EPA without going through http://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. (For additional information about EPA's public docket, visit the EPA Docket Center homepage at www.epa.gov/epahome/dockets.htm).

Docket: All documents in the docket are listed in the http://www.regulation.gov index. Although listed in the index, some information is not publicly available, e.g., CBI or other information whose disclosure is restricted by statute. Certain other material, such as copyrighted material, will be publicly available only in hard copy. Publicly available docket materials are available either electronically at http://www.regulations.gov or in hard copy.

FOR FURTHER INFORMATION CONTACT: Sara Kinslow, U.S. EPA Region III, RCRA Waste Branch, Mailcode 3LC32, 1650 Arch Street, Philadelphia, PA 19103-2029; Phone: 215-814-5577.

SUPPLEMENTARY INFORMATION:

A. Why are revisions to State programs necessary?

States that have received final authorization from EPA under RCRA section 3006(b), 42 U.S.C. 6926(b), must maintain a hazardous waste program that is equivalent to, consistent with, and no less stringent than the Federal program. As the Federal program is revised to become more stringent or broader in scope, States must revise their programs and apply to EPA to authorize the revisions. Authorization of revisions to State programs may be necessary when Federal or State statutory or regulatory authority is modified or when certain other revisions occur. Most commonly, States must revise their programs because of revisions to EPA's regulations in 40 Code of Federal Regulations (CFR) parts 124, 260 through 268, 270, 273, and 279.

B. What decisions are proposed in this rule?

On August 15, 2012, the District submitted a final program revision application (with subsequent corrections) seeking authorization of revisions to its hazardous waste program that correspond to certain Federal rules promulgated between January 14, 1985 and July 1, 2004. EPA concludes that the District's application to revise its authorized program meets all of the statutory and regulatory requirements established by RCRA, as set forth in RCRA section 3006(b), 42 U.S.C. 6926(b), and 40 CFR part 271. Therefore, EPA proposes to authorize revisions to the District's hazardous waste program with the revisions described in its authorization application, and as listed below in Section G of this document.

The District has responsibility for permitting treatment, storage, and disposal facilities within its borders and for carrying out the aspects of the RCRA program described in its application, subject to the limitations of the Hazardous and Solid Waste Amendments of 1984 (HSWA). New Federal requirements and prohibitions imposed by Federal regulations that EPA promulgates under the authority of HSWA take effect in authorized States before they are authorized for the requirements. Thus, EPA will implement those HSWA requirements and prohibitions for which the District has not been authorized, including issuing HSWA permits, until the District is granted authorization to do so.

C. What is the effect of today's proposed authorization decision?

This proposal to authorize revisions to the District's authorized hazardous waste program will not impose additional requirements on the regulated community because the regulations for which the District has requested federal authorization are already effective under District law and are not changed by today's action. The District has enforcement responsibilities under its District hazardous waste program for violations of its program, but EPA retains its authority under RCRA sections 3007, 3008, 3013, and 7003, which include, among others, authority to:

• Perform inspections, and require monitoring, tests, analyses, or reports;

• Enforce RCRA requirements and suspend or revoke permits; and

• Take enforcement actions regardless of whether the District has taken its own actions.

D. What happens if EPA receives comments on this proposed action?

If EPA receives comments on this proposed action, we will address those comments in our final action. If you want to comment on this proposed action, you must do so at this time. You may not have another opportunity to comment.

E. What has the District of Columbia previously been authorized for?

The District initially received final authorization effective March 22, 1985 (50 FR 9427, March 8, 1985) to implement its base hazardous waste management program. EPA granted authorization for revisions to the District's regulatory program on September 10, 2001, effective November 9, 2001 (66 FR 46961).

The District's previously-authorized hazardous waste program was administered through the District of Columbia Department of Health. However, on February 15, 2006, the District established the District Department of Environment (DDOE) and reassigned the hazardous waste program to DDOE. On July 23, 2015, DDOE was renamed as the Department of Energy and Environment (DOEE). This name change occurred after the District submitted a program revision application. As such, both DDOE and DOEE appear in the District's final program revision application (and subsequent corrections). The DOEE's Hazardous Waste Branch within its Toxic Substances Division has authority to implement the District's hazardous waste program.

F. What revisions is EPA proposing with this proposed action?

On August 15, 2012, the District submitted a final program revision application (with subsequent corrections), seeking authorization of additional revisions to its program in accordance with 40 CFR 271.21. As described in Section F, the District has proposed to transfer the authority to administer the approved program from the District of Columbia Department of Health to DOEE. The District's revision application also includes the District's statutory and regulatory changes to the District's authorized hazardous waste program, including adoption of the Federal hazardous waste regulations published through July 1, 2004 (RCRA Cluster XIV), with certain exceptions described in Section H. The District's revised statutes and regulations are equivalent to, and no less stringent than, the analogous Federal requirements.

The District seeks authority to administer the Federal requirements that are listed in Table 1 below. Effective October 28, 2005, the District incorporates by reference these Federal provisions. This table lists the District's analogous requirements that are being recognized as no less stringent than the analogous Federal requirements.

The District's regulatory references are to Title 20 of the District of Columbia Municipal Regulations (DCMR), Chapters 42 and 43, as amended effective October 28, 2005. The District's statutory authority for its hazardous waste program is based on the District of Columbia Hazardous Waste Management Act of 1977, DC Official Code § 8-1301 et seq. The District's application also includes a revised Program Description, which provides a description of the hazardous waste regulatory program in the District.

In this proposed rule, EPA proposes, subject to public review and comment, that the District's hazardous waste program revision application satisfies all of the requirements necessary to qualify for final authorization. Therefore, EPA is proposing to authorize the District for the following program revisions:

Table 1—The District of Columbia's Analogs to the Federal Requirements
Federal requirement | Analogous District of Columbia authority
40 CFR part 260—Hazardous Waste Management System: General, as of July 1, 2004 | Title 20 District of Columbia Municipal Regulations (20 DCMR) 4200, 4202.1, 4260.1 through 4260.7 (except 4260.4(e)). (More stringent provisions: 4206.2).
40 CFR part 261—Identification and Listing of Hazardous Waste, as of July 1, 2004 | 20 DCMR 4261.1 through 4261.6, and 4261.8 through 4261.10. (More stringent provisions: 4204.1, 4206.2, and 4261.7).
40 CFR part 262—Standards Applicable to the Generators of Hazardous Waste, as of July 1, 2004 | 20 DCMR 4201.9, 4204.1, 4204.3 through 4204.5, 4262.1 through 4262.3, 4262.5, and 4262.7. (More stringent provisions: 4205.1, 4206.1, 4206.2, 4262.4, and 4262.6).
40 CFR part 263—Standards Applicable to the Transporters of Hazardous Waste, as of July 1, 2004 | 20 DCMR 4204.1, 4204.2, 4204.5, and 4263.1. (More stringent provisions: 4205.1, 4206.2, and 4263.2 through 4263.5).
40 CFR part 264—Standards for Owners and Operators of Hazardous Waste Treatment, Storage, and Disposal Facilities, as of July 1, 2004 | 20 DCMR 4201.9, 4204.2, 4264.1 through 4264.2(a)(3), and 4264.2(b) through 4264.12. (More stringent provisions: 4202.3 introduction and (a) through (e), (h), and (k), 4205.1, 4206.1, 4206.2, and 4264.2(a)(4)).
40 CFR part 265—Interim Status Standards for Owners and Operators of Hazardous Waste Treatment, Storage, and Disposal Facilities, as of July 1, 2004 | 20 DCMR 4201.9, 4265.1 through 4265.2(a)(3), 4265.2(b) through 4265.6, and 4265.8 through 4265.11. (More stringent provisions: 4202.3 introduction and (a) through (e), (h), and (k), 4205.1, 4206.2, 4265.2(a)(4), 4265.7.
40 CFR part 266—Standards for the Management of Specific Hazardous Wastes and Specific Types of Hazardous Waste Management Facilities, as of July 1, 2004 | 20 DCMR 4201.9 and 4266.1 through 4266.3. (More stringent provisions: 4206.2).
40 CFR part 268—Land Disposal Restrictions, as of July 1, 2004 | 20 DCMR 4268.1 through 4268.3. (More stringent provisions: 4202.2, 4202.3(e), and 4206.2).
40 CFR part 270—The Hazardous Waste Permit Program, as of July 1, 2004 | 20 DCMR 4270.1, 4270.2, 4270.4 through 4270.14, 4271.1 through 4271.4(a), 4271.6 through 4271.9(a), 4316. (More stringent provisions: 4206.2, 4270.3, 4271.4(b), 4271.5, 4271.9(b).
40 CFR part 273—Standards for Universal Waste Management, as of July 1, 2004 | 20 DCMR 4273.1 and 4273.5. (More stringent provisions: 4206.2 and 4273.2 through 4273.4).
40 CFR part 279—Standards for the Management of Used Oil, as of July 1, 2004 | 20 DCMR 4279.1, 4279.2, 4279.4, 4279.7(c), 4279.9, and 4279.10. (More stringent provisions: 4202.3 (introduction), and (i), 4205.1, 4206.1, 4206.2, 4279.3, 4279.5 through 4279.7(b), and 4279.8).

G. Where are the revised District rules different from the Federal rules?

1. District of Columbia Requirements That Are Broader in Scope

The District hazardous waste program contains certain provisions that are broader than the scope of the Federal program. These broader in scope provisions are not part of the program EPA is proposing to authorize. EPA cannot enforce requirements that are broader in scope, although compliance with such provisions is required by District law. Examples of broader in scope provisions of the District's program include, but are not limited to, the following:

(a) 20 DCMR 4260.4(e) defines, and 20 DCMR Section 4203 identifies specific procedures for listing, solid wastes that are not considered hazardous wastes under 40 CFR part 261, but which the District may determine to regulate as hazardous wastes under 20 DCMR Chapters 42 and 43. Such District-only wastes would make the District's universe of regulated hazardous waste larger than EPA's and, therefore, broader in scope.

(b) At 20 DCMR Section 4390, the District requires permit application fees from generators, owners or operators of transfer facilities, and hazardous waste storage, treatment, and disposal facilities.

2. District of Columbia Requirements That Are More Stringent Than the Federal Program

The District hazardous waste program contains several provisions that are more stringent than the RCRA program as codified in the July 1, 2004 edition of Title 40 of the CFR. More stringent provisions are part of a Federally-authorized program and are, therefore, Federally-enforceable. Under this proposed action, EPA would authorize the District program for each more stringent provision. The specific more stringent provisions are also noted in Table 1. They include, but are not limited to, the following:

(a) At 20 DCMR 4261.7, the District subjects generators of no more than 100 kilograms in a calendar month to the notification requirements at 20 DCMR 4204.1, rather than the reduced requirements in the Federal regulations for this group of generators. Additionally, the District does not incorporate the Federal provision at 40 CFR 261.5(j) that allows conditionally exempt small quantity generator waste that is mixed with used oil to be managed as used oil. Instead, the District requires such a mixture to be managed as hazardous waste.

(b) In addition to the requirements of 40 CFR part 265, subpart I, 20 DCMR 4265.7 requires generators storing waste in containers to also comply with the containment system requirements of 40 CFR 264.175 and the closure requirements of 40 CFR 264.178.

(c) At 20 DCMR 4262.4, the District limits hazardous waste satellite accumulation to 90 days (180 days or 270 days for generators of greater than 100 kilograms but less than 1,000 kilograms), and requires that containers in satellite accumulation areas are marked with an accumulation start date. The Federal requirements do not have a dating requirement or time limit for satellite accumulation as long as no more than 55 gallons of non-acute waste or one quart of acute waste is accumulated.

(d) In the District, transfer facilities are considered to be storage facilities and subject to full regulation under 20 DCMR Chapters 42 and 43, rather than the reduced requirements of the federal regulations. The District requirements are found at 20 DCMR 4264.2(a)(4) and 4265.2(a)(4).

(e) The District has a prohibition at 20 DCMR 4202.3 on any land-based treatment, storage, or disposal of hazardous waste within the District. This prohibition includes surface impoundments, waste piles, landfills, road treatment, and any other land application of hazardous waste. The District also prohibits land disposal, incineration, and underground injection of hazardous waste, and prohibits burning, processing, or incineration of hazardous waste, hazardous waste fuels, or mixtures of hazardous wastes and other materials in any type of incinerator, boiler, or industrial furnace. The Federal program does not include such prohibitions.

(f) Unlike the Federal program, the District (at 20 DCMR 4202.3) prohibits the burning of both on- and off-specification used oil in the District, and prohibits the use of used oil as a dust suppressant.

3. Federal Requirements for Which the District of Columbia Is Not Seeking Authorization

A number of the District's regulations are not part of the program revisions EPA is proposing to authorize. Those provisions include, but are not limited to, the following:

(a) The District has regulations defining how program information is to be shared with the public, but is not seeking authorization for the Availability of Information requirements relative to RCRA section 3006(f).

(b) The District is not seeking authority for the Federal corrective action program. EPA will continue to administer this part of the program.

(c) The District has incorporated the Federal hazardous waste export provisions as codified in the July 1, 2004 edition of Title 40, parts 262 and 264 of the CFR into 20 DCMR Sections 4262 and 4264. However, the District is not seeking authorization for these provisions at this time. EPA will continue to implement those requirements as appropriate.

(d) 20 DCMR Section 4266 incorporates the mixed waste provisions as codified in the July 1, 2004 edition of Title 40 of the CFR, but the District has not yet been authorized, nor is the District now seeking authorization, to implement the mixed waste regulations. The provisions at 20 DCMR 4266.1 and 4266.3 will become effective in the District when the District is authorized for the mixed waste rules.

H. Who handles permits after the authorization takes effect?

The District will continue to issue permits covering all the provisions for which it is authorized and will administer the permits it issues. EPA will continue to administer any RCRA hazardous waste permits or portions of permits that EPA issued prior to the effective date of this authorization in accordance with the signed Memorandum of Agreement, dated March 10, 2017, which is included with this program revision application. Until such time as formal transfer of EPA permit responsibility to the District occurs and EPA terminates its permit, EPA and the District agree to coordinate the administration of permits in order to maintain consistency. EPA will not issue any new permits or new portions of permits for the provisions listed in Section G after the effective date of this authorization. EPA will continue to implement and issue permits for HSWA requirements for which the District is not yet authorized.

I. How would this proposed action affect Indian Country (18 U.S.C. 115) in the District of Columbia?

The District is not seeking authority to operate the program on Indian lands, since there are no Federally-recognized Indian Lands in the District.

J. Statutory and Executive Order Reviews

This authorization revises the District's authorized hazardous waste management program pursuant to Section 3006 of RCRA and imposes no requirements other than those currently imposed by District law. This authorization complies with applicable executive orders and statutory provisions as follows:

1. Executive Order 12866

Under Executive Order (E.O.) 12866 (58 FR 51735, October 4, 1993), Federal agencies must determine whether the regulatory action is “significant”, and therefore subject to Office of Management and Budget (OMB) review and the requirements of the E.O. The E.O. defines “significant regulatory action” as one that is likely to result in a rule that may: (1) Have an annual effect on the economy of $100 million or more, or adversely affect in a material way, the economy, a sector of the economy, productivity, competition, jobs, the environment, public health or safety, or State, local, or tribal governments or communities; (2) create a serious inconsistency or otherwise interfere with an action taken or planned by another agency; (3) materially alter the budgetary impact of entitlements, grants, user fees, or loan programs, or the rights and obligations of recipients thereof; or (4) raise novel legal or policy issues arising out of legal mandates, the President's priorities, or the principles set forth in the E.O. EPA has determined that this authorization is not a “significant regulatory action” under the terms of E.O. 12866 and is therefore not subject to OMB review.

2. Paperwork Reduction Act

This action does not impose an information collection burden under the provisions of the Paperwork Reduction Act, 44 U.S.C. 3501 et seq., because this authorization does not establish or modify any information or recordkeeping requirements for the regulated community and only seeks to authorize the pre-existing requirements under State law and imposes no additional requirements beyond those imposed by State law.

Burden means the total time, effort, or financial resources expended by persons to generate, maintain, retain, or disclose or provide information to or for a Federal agency. This includes the time needed to review instructions; develop, acquire, install, and utilize technology and systems for the purposes of collecting, validating, and verifying information, processing, and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's regulations in title 40 of the CFR are listed in 40 CFR part 9.

3. Regulatory Flexibility Act

The Regulatory Flexibility Act (RFA), generally requires Federal agencies to prepare a regulatory flexibility analysis of any rule subject to notice and comment rulemaking requirements under the Administrative Procedure Act or any other statute unless the agency certifies that the rule will not have a significant economic impact on a substantial number of small entities. Small entities include small businesses, small organizations, and small governmental jurisdictions. For purposes of assessing the impacts of this authorization on small entities, small entity is defined as: (1) A small business defined by the Small Business Administration's size regulations at 13 CFR 121.201; (2) a small governmental jurisdiction that is a government of a city, county, town, school district, or special district with a population of less than 50,000; and (3) a small organization that is any not-for-profit enterprise which is independently owned and operated and is not dominant in its field. I certify that this authorization will not have a significant economic impact on a substantial number of small entities because the authorization will only have the effect of authorizing pre-existing requirements under State law and imposes no additional requirements beyond those imposed by State law.

4. Unfunded Mandates Reform Act

Title II of the Unfunded Mandates Reform Act (UMRA) of 1995 (Pub. L. 104-4) establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective, or least burdensome alternative if the Administrator publishes with the rule an explanation why the alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements. This authorization contains no Federal mandates (under the regulatory provisions of Title II of the UMRA) for State, local, or tribal governments or the private sector. It imposes no new enforceable duty on any State, local or tribal governments or the private sector. Similarly, EPA has also determined that this authorization contains no regulatory requirements that might significantly or uniquely affect small government entities. Thus, this authorization is not subject to the requirements of sections 202 and 203 of the UMRA.

5. Executive Order 13132: Federalism

This authorization does not have federalism implications. It will not have substantial direct effects on the States, on the relationship between the national government and the States, or on the distribution of power and responsibilities among various levels of government, as specified in E.O. 13132 (64 FR 43255, August 10, 1999). This document authorizes pre-existing State rules. Thus, E.O. 13132 does not apply to this authorization. In the spirit of E.O. 13132, and consistent with EPA policy to promote communications between EPA and State and local governments, EPA specifically solicited comment on this authorization from State and local officials.

6. Executive Order 13175: Consultation and Coordination With Indian Tribal Governments

Executive Order 13175, entitled “Consultation and Coordination with Indian Tribal Governments” (59 FR 22951, November 9, 2000), requires the EPA to develop an accountable process to ensure “meaningful and timely input by tribal officials in the development of regulatory policies that have tribal implications.” This authorization does not have tribal implications, as specified in E.O. 13175 because EPA retains its authority over Indian Country. Thus, E.O. 13175 does not apply to this authorization.

7. Executive Order 13045: Protection of Children From Environmental Health and Safety Risks

EPA interprets Executive Order 13045 (62 FR 19885, April 23, 1997) as applying only to those regulatory actions that concern health or safety risks, such that the analysis required under section 5-501 of the E.O. has the potential to influence the regulation. This action is not subject to E.O. 13045 because it proposes to approve a State program.

8. Executive Order 13211: Actions That Significantly Affect Energy Supply, Distribution, or Use

This authorization is not subject to Executive Order 13211, “Actions Concerning Regulations that Significantly Affect Energy Supply, Distribution, or Use” (66 FR 28355, May 22, 2001) because it is not a “significant regulatory action” as defined under E.O. 12866, as discussed in detail above.

9. National Technology Transfer and Advancement Act

Section 12(d) of the National Technology Transfer and Advancement Act of 1995 (“NTTAA”), (Pub. L. 104-113, 12(d)) (15 U.S.C. 272), directs EPA to use voluntary consensus standards in its regulatory activities unless to do so would be inconsistent with applicable law or otherwise impractical. Voluntary consensus standards are technical standards (e.g., materials specifications, test methods, sampling procedures, and business practices) that are developed or adopted by voluntary consensus bodies. The NTTAA directs EPA to provide Congress, through OMB, explanations when the Federal agency decides not to use available and applicable voluntary consensus standards. This authorization does not involve technical standards. Therefore, EPA is not considering the use of any voluntary consensus standards.

10. Executive Order 12898: Federal Actions To Address Environmental Justice in Minority Populations and Low-Income Populations

Executive Order 12898 (59 FR 7629, February 16, 1994) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States. EPA has determined that this authorization will not have disproportionately high and adverse human health or environmental effects on minority or low-income populations. This authorization does not affect the level of protection provided to human health or the environment because this document authorizes pre-existing State rules which are equivalent to and no less stringent than existing Federal requirements.

11. The Congressional Review Act, 5 U.S.C. 801-808

The Congressional Review Act, 5 U.S.C. 801-808, generally provides that before a rule may take effect, the agency promulgating the rule must submit a rule report, which includes a copy of the rule, to each House of the Congress and to the Comptroller General of the United States. EPA will submit a report containing this document and other required information to the U.S. Senate, the U.S. House of Representatives, and the Comptroller General of the United States prior to publication in the Federal Register. A major rule cannot take effect until 60 days after it is published in the Federal Register. This action is not a “major rule” as defined by 5 U.S.C. 804(2).

List of Subjects in 40 CFR Part 271

Environmental protection, Administrative practice and procedure, Confidential business information, Hazardous waste, Hazardous waste transportation, Indian lands, Intergovernmental relations, Penalties, Reporting and recordkeeping requirements.

Authority: This proposed action is issued under the authority of sections 2002(a), 3006 and 7004(b) of the Solid Waste Disposal Act, as amended, 42 U.S.C. 6912(a), 6926, 6974(b).

Dated: May 2, 2018.
Cosmo Servidio,
Regional Administrator, U.S. EPA Region III.

[FR Doc. 2018-12507 Filed 6-8-18; 8:45 am]

BILLING CODE 6560-50-P